GULF COAST ECOSYSTEM RESTORATION COUNCIL

[Docket No.: 108122024-1111-02]

Notice of Proposed Subaward Under a Council-Selected Restoration Component Award

AGENCY: Gulf Coast Ecosystem Restoration Council.

ACTION: Notice.

SUMMARY: The Gulf Coast Ecosystem Restoration Council (Council) publishes notice of a proposed subaward from the Texas Commission on Environmental Quality to the Armand Bayou Nature Center, a non-government organization, for the purpose of land acquisition in accordance with the Texas Land Acquisition Program for Coastal Conservation Award as approved in the Council's Third Funded Priority List.

FOR FURTHER INFORMATION CONTACT: Please send questions to Bridget Zachary by email bridget.zachary@restorethegulf.gov or (504) 232-3750.

SUPPLEMENTARY INFORMATION: The RESTORE Act at 33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Council's 2021 Funded Priorities List, which is available on the Council's website at https://www.restorethegulf.gov/council-selected-restoration-component/funded-priorities-list, RESTORE Act funds in the amount of $24,300,000 will support the Texas Land Acquisition Program for Coastal Conservation Award to the Texas Commission on Environmental Quality. Under the Texas Land Acquisition Program for Coastal Conservation Award,Texas Commission on Environmental Quality will provide a subaward in the amount of $3,000,000 to Armand Bayou Nature Center, a non-government organization, to acquire and preserve approximately 1,160 acres of habitat along Armand Bayou just north of the current 2,800-acre preserve.

Keala J. Hughes,
Director of External Affairs & Tribal Relations, Gulf Coast Ecosystem Restoration Council.

[FR Doc. 2024-18369 Filed 8-15-24; 8:45 am]

BILLING CODE 6560-58-P